DEPARTMENT OF THE INTERIOR

National Park Service

[NPS-IMR-NTIR; PPIMELCA00, PPMPSPD1Z.S00000]

Official Trail Markers for El Camino Real de Tierra Adentro National Historic Trail, El Camino Real de los Tejas National Historic Trail, and the Old Spanish National Historic Trail

AGENCY: National Park Service, Interior.

ACTION: Notice of designation.

SUMMARY: This notice issues the official trail marker insignias for El Camino Real de Tierra Adentro National Historic Trail, El Camino Real de los Tejas National Historic Trail, and the Old Spanish National Historic Trail in the National Trails System.

FOR FURTHER INFORMATION CONTACT: Carole Wendler, Acting Superintendent, National Trails, National Park Service; 1100 Old Santa Fe Trail, Santa Fe, NM 87505; via email at carole_wendler@nps.gov; or via phone at (505) 660-3242.

SUPPLEMENTARY INFORMATION: The primary author of this document is Carole Wendler, Acting Superintendent, National Trails, Regions 6, 7, and 8, National Park Service. The insignias depicted below are prescribed as the official trail marker logos for El Camino Real de Tierra Adentro National Historic Trail, El Camino Real de los Tejas National Historic Trail, and the Old Spanish National Historic Trail. Authorization for use of these trail markers is controlled by the National Park Service's National Trails office.

The original graphic image for El Camino Real de Tierra Adentro National Historic Trail was developed in 2004 with the completion of the Camino Real de Tierra Adentro National Historic Trail Comprehensive Management Plan. The National Park Service, Bureau of Land Management, and related agencies have officially adopted and use this insignia to help mark all designated alignments of El Camino Real de Tierra Adentro National Historic Trail.

The original graphic image for El Camino Real de los Tejas National Historic Trail was developed in 2011 with the completion of El Camino Real de los Tejas National Historic Trail Comprehensive Management Plan. The National Park Service and related agencies have officially adopted and use this insignia to help mark all designated alignments of El Camino Real de los Tejas National Historic Trail.

The original graphic image for the Old Spanish National Historic Trail was developed in 2017 with the completion of the Old Spanish National Historic Trail Comprehensive Administrative Strategy. The National Park Service, Bureau of Land Management, and related agencies have officially adopted and use this insignia to help mark all designated alignments of the Old Spanish National Historic Trail.

BILLING CODE 4312-52-P

In making this prescription, notice is hereby given that whoever manufactures, sells, or possesses this insignia, or any colorable imitation thereof, or photographs or prints or in any other manner makes or executes any engraving, photograph or print, or impression in the likeness of these insignia, or any colorable imitation thereof, without written authorization from the United States Department of the Interior is subject to the penalty provisions of section 701 of Title 18 of the United States Code.

Authority: National Trails System Act, 16 U.S.C. 1246(c); and Protection of Official Badges, Insignia, etc., 18 U.S.C. 701.

Carole Wendler,
Acting Superintendent, National Trails, National Park Service.

[FR Doc. 2023-19544 Filed 9-8-23; 8:45 am]

BILLING CODE 4312-52-C